ENVIRONMENTAL PROTECTION AGENCY

[FRL-7025-7]

Federal NOX Budget Trading Program: Applicability Determination

AGENCY: Environmental Protection Agency (EPA).

ACTION: Notice of applicability determination under Federal NOX Budget Trading Program.

SUMMARY: EPA established 40 CFR part 97, the Federal NOX Budget Trading Program (“the Program”), to reduce interstate transport of ozone under section 126 of the Clean Air Act (“section 126”). The Program applies to existing or new large electric generating units (“EGU's”) and large non-EGU's in states subject to section 126. EPA finds, in an applicability determination dated August 1, 2001, that Point 004 at International Paper's Plant 0006 in Virginia is not subject to the Program because, as a unit that commenced operation before January 1, 1996, it is not “fossil-fuel fired” as defined at 40 CFR 97.2, since fossil fuel did not comprise more than 50% (47.84%) of Point 004's total annual heat input for 1995. Since Point 004 is not subject to the Program, NOX allowances will not be allocated for this unit in EPA's NOX Allowance Tracking System.

DATES: Any comments regarding this applicability determination must be submitted in writing to EPA at the address below no later than August 31, 2001.

ADDRESSES: U.S. EPA, Clean Air Markets Division (6204N), 1200 Pennsylvania Avenue, NW., Washington DC, 20460.

FOR FURTHER INFORMATION CONTACT: Robert Miller, U.S. EPA Headquarters, Clean Air Markets Division, (202) 564-9077.

Dated: July 31, 2001.
Brian J. McLean,
Director, Acid Rain Division, Office of Atmospheric Programs, Office of Air and Radiation.

[FR Doc. 01-19750 Filed 8-6-01; 8:45 am]

BILLING CODE 6560-50-P